DEPARTMENT OF TRANSPORTATION

Federal Highway Administration

[Docket No. FHWA-2014-0013]

Agency Information Collection Activities: Notice of Request for Extension of Currently Approved Information Collection

AGENCY: Federal Highway Administration (FHWA), DOT.

ACTION: Notice and request for comments.

SUMMARY: In compliance with the Paperwork Reduction Act (PRA) of 1995 (44 U.S.C. 3501-3521), this notice announces that FHWA will submit the collection of information described below to the Office of Management and Budget (OMB) for review and comment. The Federal Register Notice with a 60-day comment period soliciting comments on the following collection of information was published on January 17, 2014. The PRA submission describes the nature of the information collection and its expected cost and burden.

DATES: Please submit comments by May 1, 2014.

ADDRESSES: You may submit comments identified by DOT Docket ID 2014-0013 by any of the following methods:

Web site: For access to the docket to read background documents or comments received go to the Federal eRulemaking Portal: Go to http://www.regulations.gov. Follow the online instructions for submitting comments.

Fax: 1-202-493-2251.

Mail: Docket Management Facility, U.S. Department of Transportation, West Building Ground Floor, Room W12-140, 1200 New Jersey Avenue SE., Washington, DC 20590-0001.

Hand Delivery or Courier: U.S. Department of Transportation, West Building Ground Floor, Room W12-140, 1200 New Jersey Avenue SE., Washington, DC 20590, between 9 a.m. and 5 p.m. ET, Monday through Friday, except Federal holidays.

FOR FURTHER INFORMATION CONTACT: Aquilla Carter, (202) 493-2906, Office of the Chief Financial Officer, Federal Highway Administration, Department of Transportation, 1200 New Jersey Avenue SE, Washington, DC 20590, Monday through Friday, except Federal holidays.

SUPPLEMENTARY INFORMATION: Title: Voucher for Federal-aid Reimbursements.

OMB Control Number: 2125-0507.

Background: The Federal-aid Highway Program provides for the reimbursement to States for expenditure of State funds for eligible Federal-aid highway projects. The Voucher for Work Performed under Provisions of the Federal Aid and Federal Highway Acts as amended is utilized by the States to provide project financial data regarding the expenditure of State funds and to request progress payments from the FHWA. Title 23 U.S.C. 121(b) requires the submission of vouchers. The specific information required on the voucher is contained in 23 U.S.C. 121 and 117. Two types of submissions are required by recipients. One is a progress voucher where the recipient enters the amounts claimed for each FHWA appropriation, and the other is a final voucher where project costs are classified by work type. An electronic version of the Voucher for Work Performed under Provisions of the Federal Aid Highway Acts, as amended, Form PR-20, is used by all recipients to request progress and final payments.

Respondents: 50 State Transportation Departments, the District of Columbia, Puerto Rico, Guam, American Samoa, and the Virgin Islands.

Frequency: Annually.

Estimated Average Burden per Response: The respondents electronically submit an estimated total of 12,900 vouchers each year. Each voucher requires an estimated average of 30 minutes to complete.

Estimated Total Annual Burden Hours: 6,450 hours.

Public Comments Invited: You are asked to comment on any aspect of this information collection, including: (1) Whether the proposed collection of information is necessary for the U.S. DOT's performance, including whether the information will have practical utility; (2) the accuracy of the U.S. DOT's estimate of the burden of the proposed information collection; (3) ways to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. Chapter 35, as amended; and 49 CFR 1.48.

Issued On: March 26, 2014.
Michael Howell,
Information Collection Officer.

[FR Doc. 2014-07247 Filed 3-31-14; 8:45 am]

BILLING CODE 4910-22-P